NATIONAL AERONAUTICS AND SPACE ADMINISTRATION

[Notice 03-020]

Government-Owned Inventions, Available for Licensing

ACTION: Notice of availability of inventions for licensing.

SUMMARY: The inventions listed below are assigned to the National Aeronautics and Space Administration, have been filed in the United States Patent and Trademark Office, and are available for licensing.

DATES: February 26, 2003.

FOR FURTHER INFORMATION CONTACT: Edward Fein, Patent Counsel, Johnson Space Center, Mail Code HA, Houston, TX 77058-3696, telephone (281) 483-4871; fax (281) 244-8452.

NASA Case No. MSC-23029-2: Simulator for a Pseudo Noise Geological Radar;

NASA Case No. MSC-23029-3: Method for Controlling a Producing Zone of a Well in a Geological Formation;

NASA Case No. MSC-23349-1: Ad Hoc Selection of Voice Over Internet Streams;

NASA Case No. MSC-23427-1: Microwave Ablation Of Prostatic Cells Using A Separated Antenna Array.

Dated: February 19, 2003.
Robert M. Stephens,
Deputy General Counsel.

[FR Doc. 03-4433 Filed 2-25-03; 8:45 am]

BILLING CODE 7510-01-P